DEPARTMENT OF JUSTICE

Notice of Lodging of Proposed Consent Decree

In accordance with Departmental Policy, 28 CFR 50.7, notice is hereby given that a proposed Consent Decree in United States of America v. George Gabriel et al., Civil Action No. 05-00836-KI (D. Oregon), was lodged with the United States District Court for the District of Oregon on June 8, 2005.

The proposed Consent Decree concerns a complaint filed by the United States against George Gabriel, The Pallette Ranch, a general partnership, Dave Turner, d/b/a Turner Excavating Company, S.P. Cramer & Associates, Inc., and Ken Witty, pursuant to the Clean Water Act, 33 U.S.C. 1311, and the Endangered Species Act, 16 U.S.C. et seq., to obtain injunctive relief from and impose civil penalties against the Defendants for violating the Clean Water Act and the Endangered Species Act by discharging pollutants without a permit into waters of the United States.

The Consent Decree resolves those allegations by requiring (a) Restoration and preservation of areas damaged by the unauthorized discharges at the Site; (b) enhancement of other wetlands at the Site; (c) payment of civil penalties; and (d) performance of supplemental projects within the watershed to benefit the environment and the community.

The Department of Justice will receive written comments relating to the proposed Consent Decree for a period of thirty (30) days from the date of the publication of this notice. Comments should be addressed to the Assistant Attorney General, Environment and Natural Resources Division, United States Department of Justice, Attention: Michael J. Zevenbergen, Attorney, Environmental Defense Section, Seattle Field Office, c/o NOAA/Damage Assessment, 7600 Sand Point Way NE., Seattle, WA 98115, and should refer to United States of America v. George Gabriel et al., DJ Reference No. 90-5-1-4-590. In addition, the proposed Consent Decree may be viewed at http://www.usdoj.gov/enrd/open.html.

The proposed Consent Decree may be examined at the Clerk's Office, United States District Court, 1000 SW. Third Avenue, Room 740, Portland, OR 97204.

Letitia J. Grishaw,
Chief, Environmental Defense Section, Environment and Natural Resources Division, United States Department of Justice.

[FR Doc. 05-12866 Filed 6-29-05; 8:45 am]

BILLING CODE 4410-15-M